CIVIL RIGHTS COMMISSION

Sunshine Act Meeting

AGENCY: U.S. Commission on Civil Rights.

DATE AND TIME: Friday, June 16, 2000, 8 a.m.

PLACE: U.S. Commission on Civil Rights, 624 Ninth Street, N.W., Room 540, Washington, DC 20425.

STATUS:

Agenda

I. Approval of Agenda

II. Approval of Minutes of May 12, 2000 Meeting

III. Announcements

IV. Staff Director's Report

V. Police Practices and Civil Rights in New York City Report

VI. Future Agenda Items

9 a.m. Briefing on National Police Practices and Civil Rights

CONTACT PERSON FOR FURTHER INFORMATION: David Aronson, Press and Communications (202) 376-8312.

Edward A. Hailes, Jr.,
Acting General Counsel.

[FR Doc. 00-14597 Filed 6-6-00; 12:38 am]

BILLING CODE 6335-00-M